DEPARTMENT OF HOMELAND SECURITY

[Docket No. DHS-2023-0021]

Homeland Security Academic Partnership Council

AGENCY: The Department of Homeland Security (DHS), The Office of Partnership and Engagement (OPE).

ACTION: Notice of public meeting of the Homeland Security Academic Partnership Council.

SUMMARY: The Homeland Security Academic Partnership Council (HSAPC) will hold a public meeting on Monday, August 7, 2023. The meeting will be open to the public via web conference.

DATES: The meeting will take place from 3:00 p.m. EST to 4:00 p.m. EST on Monday, August 7, 2023. Please note that the meeting may end early if the Council has completed its business.

ADDRESSES: The HSAPC meeting will be held via web conference. Members of the public interested in participating may do so by following the process outlined below. The public will be in listen-only mode. Written comments can be submitted no later than Wednesday, August 9, 2023. Comments must be identified by Docket No. DHS-2023-0021 and may be submitted by one of the following methods:

• Federal eRulemaking Portal: http://www.regulations.gov. Follow the instructions for submitting comments, or

• Email: DHSAcademic@hq.dhs.gov. Include Docket No. DHS-2023-0021 in the subject line of the message.

Instructions: All submissions received must include the words “Department of Homeland Security” and “DHS-2023-0021,” the docket number for your comments. Comments received will be posted without alteration at http://www.regulations.gov, including any personal information provided. You may wish to review the Privacy and Security Notice found via a link on the homepage of www.regulations.gov.

Docket: For access to the docket to read comments received by the Council, go to http://www.regulations.gov, search “DHS-2023-0021,” and “Open Docket Folder” to view the comments.

FOR FURTHER INFORMATION CONTACT: Tamara Molina, Acting Deputy Executive Director of the Office of Academic Engagement and Alternate Designated Federal Officer, Homeland Security Academic Partnership Council, Department of Homeland Security at DHSAcademic@hq.dhs.gov or 202-891-3108.

SUPPLEMENTARY INFORMATION: Notice of this meeting is given under Section 10(a) of the Federal Advisory Committee Act (FACA), Public Law 117-286 (5 U.S.C. ch. 10), which requires each FACA committee meeting to be open to the public unless the President, or the head of the agency to which the advisory committee reports, determines that a portion of the meeting may be closed to the public in accordance with 5 U.S.C. 552b(c).

The HSAPC provides provide organizationally independent, strategic, timely, specific, and actionable recommendations to the Secretary on key issues at the intersection of education, academia, and the DHS mission. The meeting will include:

(1) Remarks from Senior DHS leaders,

(2) Introduction and swearing in of members, and

(3) The Announcement of New Taskings.

Members of the public will be in listen-only mode. Members of the public may register to participate in this Council meeting via web conference under the following procedures. Each individual must provide their full legal name and email address no later than 5:00 p.m. EST on Friday, August 4, 2023, to Tamara Molina of the Council via email to DHSAcademic@hq.dhs.gov or via phone at 202-891-3108.

Members of the public who have registered to participate will be provided the weblink after the closing of the public registration period and prior to the start of the meeting. For more information about the HSAPC, please visit our website: https://www.dhs.gov/homeland-security-academic-partnership-council-hsapc.

Lastly, the HSAPC is committed to ensuring all participants have equal access regardless of disability status. For information on services for individuals with disabilities or if you require a reasonable accommodation due to a disability to fully participate, please contact Tamara Molina at DHSAcademic@hq.dhs.gov or 202-891-3108 no later than 5:00 p.m. EST on Thursday, August 3, 2023.

Dated: July 6, 2023.
Tamara J. Molina,
Alternate Designated Federal Officer, Homeland Security Academic Partnership Council, U.S. Department of Homeland Security.

[FR Doc. 2023-14683 Filed 7-11-23; 8:45 am]

BILLING CODE 9112-FN-P